DEPARTMENT OF ENERGY

Federal Energy Regulatory Commission

[Docket No. IS12-88-000]

Dixie Pipeline Company LLC; Notice of Technical Conference

Take notice that the Commission will convene a technical conference on Tuesday, February 28, 2012, at 9 a.m. (EDT), in a room to be designated at the offices of the Federal Energy Regulatory Commission, 888 First Street NE., Washington, DC 20426.¹

¹ Dixie Pipeline Company has changed its name to Dixie Pipeline Company LLC.

The technical conference will address all aspects of Dixie's FERC Tariff No. 99.1.0, which cancels FERC Tariff No. 99.0.0 and modifies language regarding Injection Capacity Allocation under Item 70 “Proration,” as discussed in the Commission's Order issued on January 13, 2012.² Dixie's proposed revision would affect the manner in which long-haul shippers' historical volumes are used in allocating capacity during periods of constraint.

² Dixie Pipeline Co., 138 FERC ¶ 61,022 (2012).

FERC conferences are accessible under section 508 of the Rehabilitation Act of 1973. For accessibility accommodations please send an email to accessibility@ferc.gov or call toll free (866) 208-3372 (voice) or (202) 502-8659 (TTY), or send a fax to (202) 208-2106 with the required accommodations.

All interested persons are permitted to attend. For further information please contact Jenifer Lucas at (202) 502-8362 or email jenifer.lucas@ferc.gov.

Dated: January 26, 2012.
Kimberly D. Bose,
Secretary.

[FR Doc. 2012-2385 Filed 2-2-12; 8:45 am]

BILLING CODE 6717-01-P